DEPARTMENT OF AGRICULTURE

Agricultural Research Service

Notice of Intent To Prepare an Environmental Impact Statement

AGENCY: Agricultural Research Service, USDA.

ACTION: Notice of Intent to Prepare an Environmental Impact Statement.

SUMMARY: The Agricultural Research Service, U.S. Sheep Experiment Station (USSES), Dubois, Idaho is proposing sheep grazing and associated activities to achieve its research goals and objectives (to develop integrated methods for increasing production efficiency of sheep and to simultaneously improve the sustainability of rangeland ecosystems).

DATES: Comments concerning the scope of the analysis must be received by March 10, 2011. The draft environmental impact statement is expected June 2011 and the final environmental impact statement is expected March 2012.

ADDRESSES: Comments should be addressed to Dr. Andrew C. Hammond, Director, USDA, ARS, Pacific West Area, ATTN: USSES Grazing Project 2010 Scoping. E-mail comments to: USSES@fs.fed.us (preferred). Written comments may be sent to: 800 Buchanan Street, Albany, CA 94710.

FOR FURTHER INFORMATION CONTACT: Sue Wingate at USSES@fs.fed.us.

Individuals who use telecommunication devices for the deaf (TDD) may call the Federal Information Relay Service (FIRS) at 1-800-877-8339 between 8 a.m. and 8 p.m., Eastern Time, Monday through Friday.

SUPPLEMENTARY INFORMATION:

Purpose and Need for Action

The purpose of the proposed action is to achieve the research goals and objectives (to develop integrated methods for increasing production efficiency of sheep and simultaneously to improve the sustainability of rangeland ecosystems) of the Agricultural Research Service, U.S. Sheep Experiment Station in Dubois, Idaho.

Proposed Action/No New Action Alternative

To achieve those goals and objectives, the Sheep Station is proposing to continue historic (approximately 92 years) sheep grazing and associated activities currently occurring on Agricultural Research Service lands, U.S. Forest Service and Bureau of Land Management allotments, and a Department of Energy feed lot. The proposed action would maintain the status quo and would be considered a “no new federal action” alternative.

In addition to grazing sheep on an annual rotation across Agricultural Research Service lands at the U.S. Sheep Experiment Station in Dubois, Idaho and nearby Forest Service and Bureau of Land Management allotments, the following activities would occur:

• Sheep trail and driveway use and maintenance.

• Maintenance and continuation of stock water operations.

• Camp tending—use of sheep herder camps and summer range camps.

• Maintenance and repair of existing permanent fence.

• Maintenance and repair of existing roads and fire breaks.

• Range improvement—prescribed burning and seeding.

• Cattle and horse grazing.

• Predator avoidance and abatement.

• Integrated pest management for noxious weeds.

Detailed information can be found in the Scoping Information document posted on the ARS Web site at: http://www.ars.usda.gov/main/site_main.htm?modecode=53-64-00-00 under “News and Events”.

Possible Alternatives

Four alternatives to the proposed action may be considered:

• No grazing. Under this alternative no grazing would occur; any sheep kept by the Station would be permanently housed at the Department of Energy feed lot.

• No grazing would occur on the East Summer, West Summer, and Humphrey Pastures as well as on the following Forest Service allotments: East Beaver and Meyers Creek.

• No grazing would occur on the East Summer Range as well as on the Forest Service Meyers Creek allotment.

• No grazing would occur on the Forest Service Snakey and Kelly allotments and the Bureau of Land Management Bernice allotment.

Responsible Official

Andrew C. Hammond, Agricultural Research Service Pacific West Area Director.

Nature of Decision To Be Made

With respect to the operations at the Agricultural Research Service U.S. Sheep Experiment Station, Dubois, Idaho, the responsible official will determine:

• Which actions, if any, will be approved, and

• What additional mitigation measures and monitoring requirements may be needed to protect resources.

Scoping Process

This notice of intent initiates the scoping process, which guides the development of the environmental impact statement.

It is important that reviewers provide their comments at such times and in such a way that they are useful to the Agency's preparation of the EIS. Therefore, comments should be provided prior to the close of the comment period and should clearly articulate the reviewer's concerns and contentions. The submission of timely and specific comments can affect a reviewer's ability to participate in subsequent judicial review.

Comments received in response to this solicitation, including names and addresses of those who comment, will become part of the public record for this proposed action. Comments submitted anonymously will be accepted and considered. However, anonymous comments will not provide the respondent with standing to participate in subsequent administrative review or judicial review.

Dated: November 22, 2010.
Edward B. Knipling,
Administrator, ARS.

[FR Doc. 2011-1333 Filed 1-21-11; 8:45 am]

BILLING CODE 3410-03-P